DEPARTMENT OF HEALTH AND HUMAN SERVICES

[Document Identifier: OS-0990—New]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 15, 2018.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990—New—30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Trafficking Victim Assistance Program Social Network Analysis—Network Survey.

Type of Collection: New.

OMB No. 0990-NEW—Office of the Assistant Secretary for Planning and Evaluation—Administration for Children and Families' Trafficking Victim Assistance Program.

Abstract

The Office of the Assistant Secretary for Planning and Evaluation (ASPE), in partnership with the Administration for Children and Families (ACF), U.S. Department of Health and Human Services (HHS) is requesting Office of Management and Budget (OMB) approval for a new information collection request titled, “Trafficking Victim Assistance Program (TVAP) Social Network Analysis—Network Survey.” Under the guidance of ASPE and ACF, a contractor is carrying out this assessment. The data collected and analyzed under this submission will help HHS better understand the type and extent of the relationship between the TVAP grantees, TVAP subrecipients, and other service providers operating in TVAP subrecipient areas. It will also help illuminate each grantee's and subrecipient's types and number of services provided, estimated costs of services, service coordination between grantees or subrecipients and other services providers, and type and strength of relationships between grantees and subrecipients. This information will enable HHS to understand the structure of the grantee/subrecipient network and inform recommendations for more efficient network management and distribution of support.

TVAP, as authorized by the Trafficking Victims Protection Act of 2000, provides comprehensive case management services to foreign-born victims of human trafficking residing in the United States. Since its inception, TVAP funding and infrastructure have remained relatively unchanged: Services are paid on a per capita basis, and funds are managed through three primary grantees that enter into cooperative agreements with service providers (subrecipients). Given the changing landscape and the greater understanding of the nature and extent of trafficking, HHS is undertaking a program assessment to understand whether any efficiencies can be gained in the program administration and structure. To supplement an earlier fiscal year 2018 assessment to solicit qualitative feedback from a range of program stakeholders, the information collected for this program survey aims to help HHS determine if efficiencies can be gained through improved coordination among TVAP grantees, TVAP subrecipients, and other service providers.

Data will be collected through an electronic survey of fiscal year 2016 TVAP grantees and subrecipients. Key staff at grantee sites and subrecipient organizations will complete a self-administered online survey that will include questions about each respondent's services provided, estimated costs of services, service coordination between grantees or subrecipients, and type and strength of relationships between grantees and subrecipients. With this data, the contractor, to inform ASPE and ACF, will build a social/organizational network to depict how grantee and subrecipient organizations collaborate with one another through TVAP to better understand the existing network and identify potential opportunities for improving the efficiency of the network. ASPE anticipates completion of all data collection activities by October 2018.

Estimated Annualized Burden Table
Type of respondent | Number of respondents | Number responses per respondent | Average burden per response (in hours) | Total burden hours
TVAP grantees | 3 | 1 | 45/60 | 2.25
TVAP Subrecipients | 253 | 1 | 45/60 | 189.75
Total | 256 | 1 | 45/60 | 192

Terry Clark,
Asst. Paperwork Reduction Act Reports Clearance Officer, Office of the Secretary.

[FR Doc. 2018-10394 Filed 5-15-18; 8:45 am]

BILLING CODE 4151-05-P